DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer at 301-443-7978.

National Cross-Site Assessment of the Addiction Technology Transfer Centers Network—(OMB No. 0930-0216, Revision—The Substance Abuse and Mental Health Administration's (SAMHSA) Center for Substance Abuse Treatment (CSAT) intends to continue an assessment of its Addiction Technology Transfer Centers (ATTCs). The data collection instruments are being modified, and the methodology will be updated to comply with CSAT's new Government Performance and Results Act (GPRA) requirements. CSAT is requiring all of its programs to use standard GPRA Customer Satisfaction forms for training, technical assistance and meeting events, approved by OMB under OMB control number 0930-0197. In response to these new requirements, the ATTC Network will modify the current information collection tools to be in compliance, while still collecting information needed for the cross-site assessment.

The goal underlying the training and education opportunities provided through the ATTCs is to enhance the competencies of professionals in a variety of disciplines to address the clinical needs of individuals with substance abuse problems using research-based curricula and training materials through both traditional and non-traditional technologies.

The ATTCs disseminate current health services research from the National Institute on Drug Abuse, National Institute on Alcohol Abuse and Alcoholism, National Institute of Mental Health, Agency for Health Care Policy and Research, National Institute of Justice, and other sources and applied knowledge development activities from SAMHSA using innovative technologies by developing and updating state-of-the-art research-based curricula and developing faculty and trainers. Participants in ATTC events are self-identified and participate in either academic courses, continuing education/professional development training events, technical assistance or meetings. Academic courses are offered at all levels. Continuing education/professional development training is designed to meet identified needs of counselors and other professionals who work with individuals with substance abuse problems. A technical assistance is a jointly planned consultation generally involving a series of contacts between the ATTC and an outside organization/institution during which the ATTC provides expertise and gives direction toward resolving a problem or improving conditions. A meeting is an ATTC sponsored or co-sponsored event in which a group of people representing one or more agencies other than the ATTC work cooperatively on a project, problem, and/or a policy.

Both a process and an outcome assessment will be conducted. The process component will describe the training and education needs of pre-service and currently practicing professionals, the types of events that participants receive through the ATTCs, and their satisfaction with services. The outcome component will focus on changes in clinical practice made by participants as a result of knowledge received.

Analysis of this information will assist CSAT in documenting the numbers and types of participants in ATTC events, describing the extent to which participants improve in their clinical competency, and which method is most effective in disseminating knowledge to the various audiences. This type of information is crucial to support CSAT in complying with GPRA reporting requirements and will inform future development of knowledge dissemination activities.

The study design for trainees will include a description of each event, and a pre-post design that collects identical information at initiation of ATTC courses/trainings, at the completion of the course/training, and again after 30 days. For technical assistance and meeting events, there will be a description of each event and demographic information will be collected from participants before the event. In addition, the study will collect satisfaction measures after each event and at 30-day follow-up using the required GPRA forms. Follow-up forms will be sent to a sample of 25% of participants at events. The chart below summarizes the annualized burden for this project.

Respondent type | Number of respondents | Responses per respondent | Hours per response | Total burden hours
Students/Trainees | 20,000 | 3 | .25 | 15,000
ATTC Faculty/Staff
Faculty/Trainers | 200 | 1 | .25 | 50
ATTC Summary Reports | 15 | 4 | 2.00 | 120
Training Participants
Pre-event Information | 20,000 | 1 | .13 | 2,600
Post-event Information | 20,000 | 1 | .16 | 3,200
Followup Information | 5,000 | 1 | .16 | 800
Meeting and Technical Assistance Participants
Pre-event information | 3,000 | 1 | .08 | 240
Total | 23,215 |  |  | 7,010

Written comments and recommendations concerning the proposed information collection should be sent within 30 days of this notice to: Lauren Wittenberg, Human Resources and Housing Branch, Office of Management and Budget, New Executive Office Building, Room 10235, Washington, DC 20503; due to potential delays in OMB's receipt and processing of mail sent through the U.S. Postal Service, respondents are encouraged to submit comments by fax to: 202-395-6974.

Dated: August 19, 2003.
Anna Marsh,
Acting Executive Officer, SAMHSA.

[FR Doc. 03-21734 Filed 8-25-03; 8:45 am]

BILLING CODE 4162-20-P